DEPARTMENT OF THE INTERIOR

National Park Service

Mississippi National River and Recreation Area, Environmental Impact Statement Concerning the Disposition of the Bureau of Mines, Twin Cities Research Center Main Campus, Hennepin County, MN

AGENCY: National Park Service, Department of the Interior.

ACTION: Notice of Intent to prepare an Environmental Impact Statement concerning disposition of the former Bureau of Mines, Twin Cities Research Center Main Campus, Hennepin County, Minnesota.

SUMMARY: Pursuant to the National Environmental Policy Act of 1969, 42 U.S.C. 4332(2)(C), the National Park Service (NPS) will prepare an environmental impact statement (EIS) in partnership with the U.S. Fish and Wildlife Service, Region 3, concerning disposition of the former Bureau of Mines, Twin Cities Research Center Main Campus (Center), Hennepin County, near Minneapolis, Minnesota, and within the Mississippi National River and Recreation Area (MNRRA), a unit of the National Park System. The EIS will consider a range of alternatives for disposition of the Center and will be part of a planning process that will span three to four years, ending with a record of decision. There has been considerable public interest in the disposition of the Center. Some of the issues identified to date concern preservation and protection of cultural and natural resources, including protection of the groundwater associated with Coldwater Spring, and continued public access to the site.

The NPS anticipates starting the public scoping process for the EIS in February 2005. The NPS will prepare a scoping newsletter in the coming months that will identify issues and inform the public of the schedule for the EIS process and dates for upcoming meetings. To receive a copy of the newsletter, telephone or e-mail the NPS at the address listed below. Public scoping will occur through open public meetings and newsletters to State and Federal Agencies; federally recognized Indian Tribes, neighborhood community groups, county commissioners, local organizations, the congressional delegation, local elected officials, and other interested members of the public. All interested persons, organizations, and agencies are encouraged to submit comments and suggestions on issues, concerns and future uses of the Center that should be addressed in the EIS. Public meetings and site visits of the Center will be held throughout the spring and summer of 2005.

In addition to attending the upcoming scoping meetings, interested parties may provide comments on this initial phase of developing alternatives for the EIS. Send or e-mail comments to the NPS address listed below.

DATES: Specific dates, times, and locations of upcoming public meetings will be announced in the St. Paul Pioneer Press and the Minneapolis Star Tribune newspapers, on the Internet at http://www.nps.gov/miss/bom, and will also be available by contacting the NPS office listed in the contact information below.

ADDRESSES: The National Park Service, Mississippi National River and Recreation Area, 111 Kellogg Blvd East, St. Paul, Minnesota, telephone: 651-290-3030. E-mail: miss_bomcomments@nps.gov.

FOR FURTHER INFORMATION CONTACT: General information about MNRRA is available on the Internet at: http://www.nps.gov/miss; information specific to the proposed action is available at: http://www.nps.gov/miss/bom.

SUPPLEMENTARY INFORMATION: If you wish to comment on any issues associated with the EIS, you may submit your comments by any one of several methods. You may mail or hand deliver comments to the address listed in the contact information section of this notice or via the Internet at miss_bomcomments@nps.gov. Due to concerns regarding computer viruses, comments will not be accepted as attachments. All comments you provide must be within the body of the e-mail. Be sure to include your name and return street address in your Internet message. Our practice is to make comments, including the names, home addresses, and other personal identifying information of commenters, available for public review during regular business hours. Individual commenters may request that we withhold specified personal identifying information from the public record, which we will honor to the extent allowable by law. There, also, may be circumstances in which, on our own initiative, we would withhold from the public record a commenter's identity, as allowable by law. If you wish us to withhold any of your personal identifying information from the public record you must state this prominently at the beginning of your comment and identify the specific information you wish us to withhold. We cannot withhold an entire comment from the public record. We will make all commenter's submissions from organizations or businesses, and from individuals identifying themselves as representatives or officials of organizations or businesses, available for inspection in the public record.

Dated: October 27, 2004.
Ernest Quintana,
Regional Director, Midwest Region.

[FR Doc. 05-1572 Filed 1-27-05; 8:45 am]

BILLING CODE 4312-98-P